DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of four individuals and one entity whose property and interests in property are blocked pursuant to Executive Order (E.O.) 13224 and whose names have been added to OFAC's list of Specially Designated Nationals and Blocked Persons (SDN List).

DATES: OFAC's actions described in this notice were effective September 10, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On September 10, 2015, OFAC blocked the property and interests in property of the following four individuals and one entity pursuant to E.O. 13224, “Blocking Property and Prohibiting Transactions With Persons Who Commit, Threaten To Commit, or Support Terrorism.”

Individuals

1. SALAH, Mahir Jawad Yunis (a.k.a. SALAH, Maher Jawad Younes; a.k.a. SALAH, Maher Jawad Yunes; a.k.a. SALAH, Maher Jawad Yunis; a.k.a. SALAH, Mahir Jawwad Yunis; a.k.a. SALAH, Mahir Yunus; a.k.a. “AKRAM, Abu”; a.k.a. “AREF, Abu”; a.k.a. “ARIF, Abu”; a.k.a. “SALAH, Mahir”; a.k.a. “SHACKER, Abu”), Saudi Arabia; DOB 22 Oct 1957; alt. nationality United Kingdom; alt. nationality Jordan; Passport 012855897 (United Kingdom); alt. Passport D126889 (Jordan); National ID No. 9571015241 (Jordan) (individual) [SDGT] (Linked To: HAMAS).

2. AWAD, Mohammed Reda Mohammed Anwar (a.k.a. AWAD, Hamid Rida Muhammad; a.k.a. “AWAD, Rida”; a.k.a. “REDA, Haj”), United Kingdom; DOB 24 Sep 1954; nationality Egypt (individual) [SDGT] (Linked To: HAMAS).

3. AL-ARURI, Salih (a.k.a. AL-ARORI, Salih; a.k.a. AL-AROURI, Salah; a.k.a. AL-AROURI, Saleh; a.k.a. AL-AROURI, Saleh Muhammad Suleiman; a.k.a. AL-ARURI, Salah; a.k.a. AL-ARURI, Saleh; a.k.a. AL-ARURI, Salih Muhammad Sulayman; a.k.a. SULAYMAN, Salih Muhammad; a.k.a. “MUHAMMAD, Abu”; a.k.a. “SULAIMAN, Salih Dar”; a.k.a. “SULEIMAN, Salih”); DOB 19 Aug 1966; POB Ramallah, West Bank; Passport 2525897 (Palestinian); alt. Passport 3580327 (Palestinian) (individual) [SDGT] (Linked To: HAMAS).

4. AL-AGHA, Abu Ubaydah Khayri Hafiz (a.k.a. AGHA, Abu Obaida Khairy Hafiz; a.k.a. AGHA, Abu Ubaydah Khayr; a.k.a. AL AGHA, Abu Obaida Khairi Hafiz; a.k.a. AL AGHA, Abu Ubaida Khairee Hafez; a.k.a. AL AGHA, Abuobaidah Kh H; a.k.a. ALAGHA, Abu Obaida Khairy; a.k.a. ALAGHA, Abu Obaidah Khairy Hafiz; a.k.a. ALAGHA, Abu Obeidah Kheiri; a.k.a. ALAGHA, Abu Obidah Khairi Hafez; a.k.a. AL-AGHA, Abu Ubayda Khayri; a.k.a. AL-AGHA, Abu Ubaydah Khayri; a.k.a. ALAGHA, Abuobaida Khairy Hafez; a.k.a. EL AGHA, Abou Oubida Khairy Hafiz; a.k.a. HAFAZ, Abu Ubayda Hairi; a.k.a. HAFEZ, Abu-Obaidah Khairy; a.k.a. HAFIZ, Abu Ubaydah Khayr; a.k.a. HAFIZ, Abu 'Ubaydah Khayri; a.k.a. “ALAGHA, Abu Obaida”; a.k.a. “AL-AGHA, Abu-'Ubaydah”; a.k.a. “HAFETH, Abu Ubaydah”; a.k.a. “HAFEZ, Abo Obeida”; a.k.a. “HAFEZ, Abu Obaida”; a.k.a. “HAFEZ, Abu-Obaidah K.”; a.k.a. “HAFITH, Abu Ubaydah”; a.k.a. “HAFIZ, Abu Obidah K”; a.k.a. “HAFIZ, Abu Ubayda”), P.O. Box 8800, Jeddah 21492, Saudi Arabia; Al Rawdah, Jeddah 21492, Saudi Arabia; Pr. Amir Sultan Street, Khalidiya Business Center, 3rd Floor, Khalidiya, Jeddah 21492, Saudi Arabia; Ar Rawdah Quarter, Near An Nuwaysir Mosque, Jeddah, Saudi Arabia; Ar Rawdah Quarter, Near Mosque Mujib Al Maddah, Jeddah, Saudi Arabia; DOB 03 May 1964; alt. DOB 02 May 1964; POB Taif, Saudi Arabia; nationality Saudi Arabia; Passport H376590 (Saudi Arabia) expires 16 Oct 2012; alt. Passport B912630 (Saudi Arabia); National ID No. 1020539712 (Saudi Arabia) (individual) [SDGT] (Linked To: HAMAS).

Entity

1. ASYAF INTERNATIONAL HOLDING GROUP FOR TRADING AND INVESTMENT (a.k.a. AL-OSAMA TRADING CO. LTD.; a.k.a. AL-'USAMA TRADING COMPANY; a.k.a. ASYAF GROUP; a.k.a. ASYAF INTERNATIONAL HOLDING GROUP; a.k.a. ASYAF INTERNATIONAL HOLDING GROUP FOR TRADING & INVESTMENT; a.k.a. DAN ISDICO; a.k.a. M/S OSAMA KHAIRY HAFEZ TRADING EST.; a.k.a. OSAMA TRADING COMPANY LTD; a.k.a. “AL-'USAMAH COMPANY”; a.k.a. “ASAMA COMMERCIAL COMPANY”; a.k.a. “ASAMA COMPANY”; a.k.a. “NURIN COMPANY”), P.O. Box 8800, Jeddah 21492, Saudi Arabia; 504 & 7102, Ibrahim Shakir Building, Hail Street Rowais, Near Caravan Center, Jeddah 21492, Saudi Arabia; Pr. Amir Sultan Street, Khalidiya Business Center, 3rd Floor, Khalidiya, Jeddah, Saudi Arabia; Riyadh 14213, Saudi Arabia; Dammam, Saudi Arabia; Al Kharaj, Saudi Arabia; Qasim, Saudi Arabia; Khartoum, Sudan [SDGT] (Linked To: AL-AGHA, Abu Ubaydah Khayri Hafiz; Linked To: HAMAS).

Dated: September 10, 2015.
John E. Smith,
Acting Director, Office of Foreign Assets Control.

[FR Doc. 2015-23109 Filed 9-14-15; 8:45 am]

BILLING CODE 4810-AL-P